DEPARTMENT OF JUSTICE

Notice of Settlement Agreement Under the Resource Conservation and Recovery Act

Notice is hereby given that on June 25, 2009, the United States filed a Notice of Settlement Agreement in In re: Fleming Companies, Inc., et al., Case No. 03-10945 (MFW) (Bankr. D. Del). The proposed Settlement Agreement resolves claims by the United States Environmental Protection Agency (“EPA”) and the Arizona Department of Environmental Quality (“ADEQ”) under the Resource Conservation and Recovery Act, 42 U.S.C. 6991 et seq., as amended (“RCRA”), against Fleming Companies, Inc. (“Fleming”) and the Fleming Post Confirmation Trust (“the PCT”) with respect to two underground storage tanks (“USTS”) located at the Food 4 Less facility at 240 W. Warner Road, Chandler, Arizona (the “Facility”).

Fleming and certain affiliated debtors filed bankruptcy petitions under Chapter 11 of Title 11 of the United States Code, 11 U.S.C. 101, et seq. as amended, in the U.S. Bankruptcy Court for the District of Delaware on April 1, 2003. The Bankruptcy Court entered an Order confirming Fleming's plan of reorganization (“the Plan”) on or about July 27, 2004. The Plan created the PCT to administer certain of Fleming's responsibilities under the Plan.

The Settlement Agreement requires the PCT to perform or pay for closure, and corrective action if necessary, with respect to the USTs at the Facility, in accordance with 40 CFR 280, up to a maximum cost of $150,000. If the required work has not been completed by October 31, 2009, EPA will provide a written estimate to the PCT of the cost of the remaining work and (subject to a limited right to dispute EPA's estimate) the PCT will make payment to ADEQ for that amount (subject to the $150,000 maximum), and ADEQ will complete the remaining work. The United States and ADEQ covenant not to sue the PCT, Fleming, or the affiliated debtors under RCRA with respect to the Facility.

The Department of Justice will receive for a period of thirty (30) days from the date of this publication comments relating to the Settlement Agreement. Comments should be addressed to the Assistant Attorney General, Environment and Natural Resources Division, and either e-mailed to pubcomment-ees.enrd@usdoj.gov or mailed to P.O. Box 7611, U.S. Department of Justice, Washington, DC 20044-7611, and should refer to In re: Fleming Companies, Inc., et al., Case No. 03-10945 (MFW) (Bankr. D. Del)., D.J. Ref. 90-11-2-08148.

The Settlement Agreement may be examined at the U.S. Environmental Protection Agency, Region 9, Office of Regional Counsel, 75 Hawthorne Street, San Francisco, California 94105. During the public comment period, the Consent Decree may also be examined on the following Department of Justice Web site: http://www.usdoj.gov/enrd/Consent_Decrees.html. A copy of the Settlement Agreement may also be obtained by mail from the Consent Decree Library, P.O. Box 7611, U.S. Department of Justice, Washington, DC 20044-7611, or by faxing or e-mailing a request to Tonia Fleetwood (tonia.fleetwood@usdoj.gov), fax number (202) 514-0097, phone confirmation number (202) 514-1547. In requesting a copy from the Consent Decree Library, please enclose a check in the amount of $7.25 (.25 cents per page reproduction cost) payable to the U.S. Treasury, or if by e-mail or fax, forward a check in that amount to the Consent Decree Library at the stated address.

Maureen Katz,
Assistant Chief, Environmental Enforcement Section, Environment and Natural Resources Division.

[FR Doc. E9-15496 Filed 6-30-09; 8:45 am]

BILLING CODE 4410-15-P